DEPARTMENT OF THE TREASURY

Office of Thrift Supervision

[AC-38: OTS Nos. 06947 and H 4709]

Savings Bank of Maine, MHC and Savings Bank of Maine, Gardiner, Maine; Approval of Conversion Application

Notice is hereby given that on May 7, 2010, the Office of Thrift Supervision approved the application of Savings Bank of Maine, MHC and Savings Bank of Maine, Gardiner, Maine, to convert to the stock form of organization. Copies of the application are available for inspection by appointment (phone number: (202) 906-5922 or e-mail: public.info@ots.treas.gov) at the Public Reading Room, 1700 G Street, NW., Washington, DC 20552, and the OTS Northeast Regional Office, Harborside Financial Center Plaza Five, Suite 1600, Jersey City, New Jersey 07311.

Dated: May 11, 2010.
By the Office of Thrift Supervision.
Sandra E. Evans,
Federal Register Liaison.

[FR Doc. 2010-11664 Filed 5-17-10; 8:45 am]

BILLING CODE 6720-01-M